DEPARTMENT OF AGRICULTURE

Rural Business-Cooperative Service

Inviting Applications for the Delta Health Care Services Grant Program

AGENCY: Rural Business-Cooperative Service, USDA.

ACTION: Notice; correction.

SUMMARY: The Rural Business-Cooperative Service published a Notice in the Federal Register on Tuesday, September 8, 2015 (80 FR 53765), inviting applications for the Delta Health Care Services Grant Program. The document contained the incorrect maximum grant amount.

FOR FURTHER INFORMATION CONTACT: Grants Division, Cooperative Programs, Rural Business-Cooperative Service, Rural Development, U.S. Department of Agriculture, 1400 Independence Avenue SW., MS 3253, Room 4008-South, Washington, DC 20250-3253, or call 202-690-1374.

Correction

In the Notice [FR Doc 2015-22546], published September 8, 2015 (80 FR 53767), column 1, under “B. Federal Award Information,” the third line “Maximum DHCS Award: $500,000” should read “Maximum DHCS Award: $1,000,000.00.”

Dated: September 16, 2015.
Samuel H. Rikkers,
Acting Administrator, Rural Business-Cooperative Service.

[FR Doc. 2015-24113 Filed 9-22-15; 8:45 am]

BILLING CODE 3410-XY-P